DEPARTMENT OF AGRICULTURE

Submission for OMB Review; Comment Request

November 3, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Catfish 2010 Study.

OMB Control Number: 0579-NEW.

Summary of Collection: Collection and dissemination of animal and poultry health data and information is mandated by 7 U.S.C. 391, the Animal Industry Act of 1884, which established the precursor of the Animal and Plant Health Inspection Service (APHIS), Veterinary Services, the Bureau of Animal Industry. Collection, analysis, and dissemination of animal and poultry health information on a national basis are consistent with the APHIS mission of protecting and improving American agriculture's productivity and competitiveness. APHIS' National Animal Health Monitoring System (NAHMS) is collecting information that is not available from any other source on the prevalence and economic importance of livestock and poultry health/disease. The NAHMS Catfish 2010 study will continue to build on two previous Catfish studies through addressing the priority issues of the U.S. catfish industry. APHIS will collect the information using NAHMS-230 and NAHMS-231.

Need and Use of the Information: APHIS will use the information collected to (1) address emerging issues, (2) determine the economic consequences of disease, (3) and develop trade strategies and support trade decisions. APHIS will also collect information on the aspects of the catfish growers operation ranging from breeding to harvesting with an emphasis on disease management practices.

Description of Respondents: Business or other for-profit.

Number of Respondents: 700.

Frequency of Responses: Reporting: Other (Once).

Total Burden Hours: 517.

Ruth Brown,
Departmental Information Collection Clearance Officer.

[FR Doc. E9-26857 Filed 11-5-09; 8:45 am]

BILLING CODE 3410-34-P